Title 3—

The President

Proclamation 8549 of August 27, 2010

National Preparedness Month, 2010

By the President of the United States of America

A Proclamation

During National Preparedness Month, we stress the importance of strengthening the security and resiliency of our Nation through systematic preparation for the full range of hazards threatening the United States in the 21st century, including natural disasters, cyber attacks, pandemic disease, and acts of terrorism. This year marks the fifth anniversary of Hurricane Katrina, one of the most tragic and destructive disasters in American history. In remembrance of this national tragedy, we must reaffirm our commitment to readiness and the necessity of preparedness.

By empowering Americans with information about the risks we face, we can all take concrete actions to protect ourselves, our families, our communities, and our country. The Federal Emergency Management Agency’s (FEMA) Ready Campaign provides simple and practical steps every American can take to be better prepared. At the community level, Citizen Corps enables volunteers to contribute to homeland security efforts by educating, training, and coordinating local activities that help make us safer, better prepared, and more responsive during emergencies. I encourage all Americans to visit Ready.gov and CitizenCorps.gov for more information and resources on emergency preparedness, including how to prepare a family emergency plan, create an emergency supply kit, and get involved in community preparedness efforts.

My Administration has made emergency and disaster preparedness a top priority, and is dedicated to a comprehensive approach that relies upon the responsiveness and cooperation of government at all levels, the private and nonprofit sectors, and individual citizens. I also encourage Americans to get involved with the thousands of organizations in the National Preparedness Month Coalition, which will share preparedness information and hold preparedness events and activities across the United States. By strengthening citizen preparedness now, we can be ready when disaster strikes.

NOW, THEREFORE, I, BARACK OBAMA, President of the United States of America, by virtue of the authority vested in me by the Constitution and the laws of the United States, do hereby proclaim September 2010 as National Preparedness Month. I encourage all Americans to recognize the importance of preparedness and observe this month by working together to enhance our national security, resilience, and readiness.

IN WITNESS WHEREOF, I have hereunto set my hand this twenty-seventh day of August, in the year of our Lord two thousand ten, and of the Independence of the United States of America the two hundred and thirty-fifth.

[FR Doc. 2010-21976

Filed 8-31-10; 8:45 am]

Billing code 3195-W0-P